DEPARTMENT OF ENERGY

Federal Energy Regulatory Commission

[Docket No. CP16-22-000]

NEXUS Gas Transmission, LLC; Notice of Onsite Environmental Review

On August 23-25, 2022, the Federal Energy Regulatory Commission's Office of Energy Projects staff will conduct a restoration inspection of the NEXUS Gas Transmission Project (NEXUS Project) right-of-way in Columbiana, Stark, Summit, Wayne, Medina, Lorain, and Erie Counties, Ohio. The purpose of the inspection is to assess the existing condition of right-of-way restoration along the eastern end of the NEXUS Project and NEXUS Gas Transmission, LLC's (NEXUS) compliance with the restoration conditions of the Commission's August 25, 2017 Order Issuing Certificate. NEXUS representatives will accompany the Office of Energy Projects staff during the inspection and will view the right-of-way from public access points and where landowners have granted NEXUS access outside of the permanent right-of-way easement. Landowners requesting Commission staff inspection of their properties within the above-mentioned counties must contact either the Office of External Affairs at (866) 208-FERC or email DG2E@ferc.gov no later than August 18, 2022 and provide their own transportation during the inspection.

Dated: August 10, 2022.
Kimberly D. Bose,
Secretary.

[FR Doc. 2022-17590 Filed 8-15-22; 8:45 am]

BILLING CODE 6717-01-P